DEPARTMENT OF TRANSPORTATION

Federal Transit Administration

[FTA Docket No. FTA 2021-0002]

Agency Information Collection Activity Under OMB Review

AGENCY: Federal Transit Administration, DOT.

ACTION: Notice of request for emergency OMB approval.

SUMMARY: In compliance with the Paperwork Reduction Act of 1995, this notice announces that the Information Collection Requirements (ICRs) abstracted below have been forwarded to the Office of Management and Budget (OMB) for review for an emergency approval of a new, mandatory information collection. The FTA requests OMB approve this collection within 15 days. The FTA is collecting this information to inform FTA actions to support the transit industry's COVID-19 recovery efforts. The ICRs describe the nature of the information collection and their expected burdens.

DATES: Comments must be submitted on or before March 22, 2021.

ADDRESSES: Written comments and recommendations for the proposed information collection should be sent within 15 days of publication of this notice to www.reginfo.gov/public/do/PRAMain. All comments received are part of the public record. Comments will generally be posted without change. Upon receiving the requested six-month emergency approval by OMB, FTA will follow the normal PRA procedures to obtain extended approval for this proposed information collection.

FOR FURTHER INFORMATION CONTACT: Candace Key, Office of Transit Safety and Oversight—System Safety Division, 1200 New Jersey Avenue SE, Mail Stop TSO-10, Washington, DC 20590 (202) 366-1783 or candace.key@dot.gov.

SUPPLEMENTARY INFORMATION: FTA requests public comment on this information collection, including (a) whether the proposed collection of information is necessary for the proper performance of the functions of the agency; (b) the accuracy of the agency's estimate of the burden (including hours and cost); (c) ways for FTA to enhance the quality, utility and clarity of the information collection; and (d) ways to minimize the burden of the collection of information on respondents, including through the use of automated collection techniques or other forms of information technology. Comments submitted in response to this notice will be summarized and/or included in the request for OMB approval of this information collection.

The summaries below describe the nature of the information collection requirements (ICRs) and the expected burden. The requirements are being submitted for clearance by OMB as required by the PRA.

Title: Transit COVID-19 Response Program.

OMB Control Number: 2132-TBD.

Type of Request: Request for emergency approval of an information collection.

Abstract: COVID-19 continues to pose significant challenges for the transit industry. Numerous transit providers have suspended service and a greater number have reduced service. Yet, throughout the COVID-19 public health emergency, transit agencies across the country continue to provide millions of trips to lifeline services, including transporting healthcare personnel and other essential workers on the front line of the Nation's COVID-19 response. Transit agencies also offer additional essential services to support communities during the public health emergency, such as meal delivery and Wi-Fi access in underserved areas, and have begun offering transportation to vaccination sites. Accordingly, the Cybersecurity and Infrastructure Security Agency designates transit workers as essential critical infrastructure workers.

Transit agencies and other stakeholders have expressed concerns about the risk of COVID-19 to the transit industry and, along with the FTA, have taken steps to address these concerns. Numerous transit agencies have implemented mitigations to limit the transmission of SARS-CoV-2, the virus that causes COVID-19, among their workers and within their systems. Despite these efforts, frontline transit workers remain at high risk for work-related exposure to SARS-CoV-2 because their work-related duties must be performed on-site and involve being in close proximity (<6 feet) to the public or to coworkers. In addition, many transit workers fall within racial and socioeconomic demographics that are at increased risk of getting sick and dying from COVID-19.

In December 2020, the U.S. Food and Drug Administration issued Emergency Use Authorizations for two COVID-19 vaccines. Most States have prioritized distribution of the vaccine to their populations consistent with the Centers for Disease Control and Prevention (CDC) Advisory Committee on Immunization Practices (ACIP) recommendations on the allocation of COVID-19 vaccines during the first phase of vaccine delivery (Phase 1). Essential workers, including transit workers, are recommended for vaccination in Phase 1b after health care personnel and long term care facility residents. However, FTA's review of State vaccination plans indicates that many States have prioritized transit workers differently than CDC/ACIP guidance and placed another group ahead of transit workers. States have already begun distributing COVID-19 vaccine doses to high-risk groups, including frontline workers. It may take many months before all frontline transit workers can be vaccinated, though their communities will continue to rely on them to provide critical transportation services every day—including transportation to vaccination sites.

On January 21, 2021, President Biden issued E.O. 13998, “to save lives and allow all Americans, including the millions of people employed in the transportation industry, to travel and work safely,” requiring immediate Federal action to mandate masks on public forms of transportation, including transit. On January 29, 2021, the CDC issued an Order requiring the wearing of masks by travelers, including on public transportation, to prevent spread of the virus that causes COVID-19. The CDC Order requires transportation operators to require that all persons wear masks when boarding, disembarking, and for the duration of travel, with certain exemptions. Operators of transportation hubs, which include bus terminals and subway stations, must require all persons wear a mask when entering or on the premises of a transportation hub. Subsequently, the Transportation Security Administration (TSA) issued a Security Directive on February 1, 2021 that implements the CDC Order.

The FTA plays a critical role in providing risk-based guidance and support for the COVID-19 recovery efforts of the transit industry. Accordingly, the FTA will require that respondents provide the following information using a fillable electronic online application: Transit Worker Counts: Total number of transit operators, other frontline essential personnel, and other workers during the reporting period.

COVID-19 Impacts on Transit Agency Service Levels: Yes or no responses to indicate if the agency suspended service, reduced service, or operated at normal levels during the reporting period.

COVID-19 Impacts on Transit Workforce: Cumulative counts of transit worker COVID-19 positives, fatalities, recoveries, and unvaccinated employees during the reporting period, and yes or no responses on whether the agency is requiring workers to be vaccinated, whether the agency has implemented the CDC Order and TSA Security Directive requiring workers and passengers to wear masks.

Respondents: FTA will require this information, pursuant to 49 U.S.C. 5334, from recipients and sub-recipients of FTA funds under the Urbanized Area Formula Funding program (49 U.S.C. 5307) or the Formula Grants for Rural Areas program (49 U.S.C. 5311) that operate transit systems or pass through funds to sub-recipients that operate transit systems. Recipients of FTA funds under the Enhanced Mobility of Seniors and Individuals with Disabilities program (49 U.S.C. 5310) are requested to provide this information on a voluntary basis.

Estimated Average Total Annual Respondents: 2,390 respondents.

Estimated Average Total Responses: 28,680.

Estimated Annual Burden Hours: 10,356.

Estimated Annual Burden per Response: 5 minutes per Section 5307 or 5311 respondent, 200 minutes per Section 5311 State respondent, and 8 minutes per Section 5310 transit operator respondent.

Frequency: Biweekly to monthly through December 31, 2021, or the duration of the COVID-19 public health emergency, whichever comes first.

Nadine Pembleton,
Director Office of Management Planning.

[FR Doc. 2021-04598 Filed 3-4-21; 8:45 am]

BILLING CODE P